DEPARTMENT OF JUSTICE

Notice of Lodging of Proposed Consent Decree Under The Clean Water Act

On September 27, 2016, the Department of Justice lodged a proposed Consent Decree with the United States District Court for the Southern District of Texas in the lawsuit entitled United States v. Kirby Inland Marine, L.P., Civil Action No. 3:16-cv-269.

The Complaint in this Clean Water Act case was filed against Kirby Inland Marine concurrently with the lodging of the proposed Consent Decree. The Complaint alleges that Kirby is civilly liable for violation of Section 311 of the Clean Water Act (“CWA”), 33 U.S.C. 1321. The Complaint seeks civil penalties and injunctive relief for the discharge of harmful quantities of marine fuel oil into navigable waters of the United States from one of Kirby's oil barges operating in the Houston Ship Channel.

The Complaint alleges that the spill occurred on March 22, 2014, when a Kirby tow boat, the Miss Susan, was pushing two 300-foot oil barges in the “Texas City Y” area of the Houston Ship Channel in fog conditions. Despite detecting the nearby presence of a 585-foot bulk cargo ship, the Summer Wind, traveling up the Houston Ship Channel, Kirby's tow boat and barges tried to cross the Channel in front of the cargo ship. As a result, Kirby's lead oil barge was struck by the cargo ship and approximately 4,000 barrels of heavy marine fuel oil spilled out of the barge into the waterway. From there, oil flowed out of the channel and spread down the Texas coastline. A full assessment of the injuries caused by the spill to marine and terrestrial natural resources is ongoing and will be addressed separately.

Under the proposed Consent Decree, Kirby will pay a civil penalty of $4,900,000.00 for the alleged violation. In addition to payment of the penalty, the Consent Decree requires Kirby to perform corrective measures across its entire fleet of vessels, including providing new and enhanced navigational equipment and training and implementing improved operational practices. Kirby also agrees to waive any limits on its liability under the Oil Pollution Act related to the oil spill incident at issue in this case.

The publication of this notice opens a period for public comment on the proposed Consent Decree. Comments should be addressed to the Assistant Attorney General, Environment and Natural Resources Division, and should refer to United States v. Kirby Inland Marine, L.P., D.J. Ref. No. 90-5-1-1-11096. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $6.25 (25 cents per page reproduction cost) payable to the United States Treasury.

Thomas P. Carroll,
Assistant Section Chief, Environmental Enforcement Section, Environment and Natural Resources Division.

[FR Doc. 2016-23738 Filed 9-30-16; 8:45 am]

BILLING CODE 4410-15-P